DEPARTMENT OF THE TREASURY

Submission for OMB Review; Comment Request

March 13, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 17, 2006 to be assured of consideration.

Internal Revenue Service (IRS)

OMB Number: 1545-1530.

Type of Review: Extension.

Title: Tip Rate Determination Agreement (Gaming Industry); Gaming Industry Tip Compliance Agreement Program.

Description: Tip Rate Determination Agreement (Gaming Industry): Information is required by the Internal Revenue Service in its Compliance efforts to assist employers and their employees in understanding and complying with section 6053(a), which requires employees to report all their tips monthly to their employers. Gaming Industry Tip Compliance Agreement Program: Taxpayers who operate gaming establishments may enter into an agreement with the Internal Revenue Service to establish tip rates and occupational categories for all tipped employees of the taxpayer. The agreements will require substantiation of the tip rates as well as annual reporting of information such as sales, tips received, employee status etc.

Respondents: Business or other for-profit and individuals or households.

Estimated Total Burden Hours: 10,467 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Michael A. Robinson,
Treasury PRA Clearance Officer.

[FR Doc. E6-3912 Filed 3-16-06; 8:45 am]

BILLING CODE 4830-01-P